DEPARTMENT OF AGRICULTURE

Forest Service

Crossroads Project, Mark Twain National Forest, Phelps and Pulaski Counties, Missouri

AGENCY: Forest Service, USDA.

ACTION: Notice; intent to prepare an environmental impact statement.

SUMMARY: The project area is located on Forest Service Lands within the Spring Creek and Lower Big Piney Creek watersheds east of Fort Leonard Wood Military Reservation and Big Piney River, and south and west of Flat, Missouri, T34N, R9W, Sections 4-6; T35N, R9W, Sections 28-34; T35N, R10W, Sections 1-3, 8-17, 21-27, 35, 36; and, T36N, R10W, Sections 34-36, Fifth Principal Meridian.

The Forest Service will prepare an environmental impact statement (EIS) to analyze and disclose the environmental effects of the project.

The primary purpose of this project is to maintain the project area's forest ecosystems ecological structure and function within a natural condition utilizing vegetative management and other restoration activities. The existing condition does not meet the desired future conditions (DFC) described in the Mark Twain National Forest Plan (MTFP) and the projected successional stages are not anticipated to meet the DFC described in the Mark Twain National Forest Plan.

DATES: Initial comments concerning the scope of the analysis should be received on or before July 31, 2000 to receive timely consideration in the preparation of the draft EIS.

ADDRESSES: Send written comments and suggestions on the proposed action or requests to be placed on the project mailing list to: John C. Bisbee, District Ranger, Houston/Rolla/Cedar Creek Ranger District, 108 South Sam Houston Boulevard, Houston, Missouri 65483. E-mail should have a subject line that reads “NEPA Houston” and be sent to: mailroom_r9 mark_twain@fs.fed.us

FOR FURTHER INFORMATION CONTACT: Mark Hamel, Project Leader/NEPA Coordinator, Houston/Rolla/Cedar Creek Ranger District, 108 South Sam Houston Boulevard, Houston, Missouri 65483, phone (417) 967-4194.

SUPPLEMENTARY INFORMATION: The following proposed projects would move the Crossroads area towards the desired future condition for the area (Mark Twain Forest Plan pg. IV-115 to IV-123). Note: several activities may occur on the same acre. The Forest Service's proposed action includes the following possible actions: (1) Designate approximately 1,500 acres of old growth, (2) maintain early successional habitat on approximately 650 acres through mechanical means (haying, bush hogging,) and/or grazing, (3) maintain early successional habitat through burning on approximately 1,600 acres, (4) restore and develop savanna habitat on approximately 150 acres through firewood cutting and burning, (5) restore glade habitat on approximately 130 acres through mechanical treatment and burning, (6) restore bottomland riparian habitat by planting hardwoods on approximately 50 acres, (7) for forest health and fuels management, prescribe burn approximately 2,100 acres, (8) plant approximately 50 acres of gamma grass for wildlife habitat, (9) treat approximately 1,400 acres with unevenage management (including group selection and group shelterwood) to meet woodland habitat objectives that exhibit a condition of 20-30 percent forbs, grass and shrub age class requirements, (10) treat approximately 700 acres with regeneration cuts (shelterwood and clearcut) to meet the 0-9 age class woodland habitat, (11) improve existing river access and parking facilities for canoeists, (12) relocate an existing river access site and access road for public safety and watershed concerns, (13) close a range allotment to future cattle grazing for soil and water resource protection, (14) connect several miles of existing unconnected non-motorized trails, (15) enhance habitat for upland game wildlife species on approximately 50 acres by planting food plots, (16) construct approximately 10 miles of temporary roads (which will be closed after use) to facilitate wildlife habitat improvement and the removal of wood products, (17) close approximately 1 mile of existing system road, and (18) rehab approximately 2 miles of old road corridor for watershed protection.

The overall objective is to move Management Area 3.4-18 toward the desired future condition outlined in the Mark Twain Forest Plan.

The scope of this analysis is limited to activities related to the purpose and need and measures necessary to mitigate the effects these activities may have on the environment. The decision will include if, when, how, and where to schedule: wildlife habitat improvement activities, watershed, glade, and savanna improvement activities, temporary road construction and closure, forest habitat treatments, prescribed burning, recreation site improvement and access management, resource protection measures, monitoring, and other follow-up activities.

A project in the same vicinity was originally presented to the public for review and comment (scoping) in April of 1997 (Project Name: MA 3.4-18) prior to undertaking preparation of an Environmental Assessment (EA). In 1999 after modification to the MA 3.4-18 project boundary, the project was presented to the public again (Project Name: Crossroads Projects). Since September 1999, additional changes have been made to the proposal and today the decision has been made to prepare an EIS. Many years of experience implementing similar types of activities in the same vicinity have shown us that the effects are not significant. We therefore do not feel that an EIS is required. However, due to the increase in appeals and litigation over the last few years and for wise fiscal efficiency, we have decided to try a new public participation approach for this particular project and prepare an EIS. This Notice of Intent serves as notice of the intent to prepare an EIS for the Crossroads Project. The comments received as a result of the public participation for the analysis will be brought forward for the EIS.

Preliminary comments made by the public and agencies were considered in the development of the tentative or preliminary issues. These are as follows: effects on Threatened, Endangered, and Sensitive (TES) species and Management Indicator Species (MIS); concern over new road construction, and road closures; concern over motorized recreational access; direct, indirect and cumulative effects; current and designated old growth; forest health, in relation to the current vegetative patterns, structures, and species composition; and, effects of restoration activities to the overall watershed.

Public participation will continue to be an important part of the project, commencing with the EIS initial scoping process (40 CFR 1501.7), which starts with publication of this notice and continues for the next 30 days. In addition, the public is encouraged to visit with Forest Service officials at any time during the analysis and prior to the decision. The Forest Service will be seeking information, comments, and assistance from Federal, State, and local agencies, the Osage Tribe, and other individuals or organizations that may be interested in or affected by the proposed action.

Comments from the public and other agencies will be used in preparation of the draft EIS. The scoping process will be used to: identify potential issues; identify additional alternatives to the proposed action; and, identify potential environmental effects of the proposed action and alternatives (i.e., direct, indirect, and cumulative effects).

While public participation in this analysis is welcome at any time, comments received within 30 days of the publication of this notice will be especially useful in the preparation of the draft EIS, which is expected top be filed with the Environmental Protection Agency and available for public review in August 2000. A 45-day comment period will follow publication of a Notice of Availability of the draft EIS in the Federal Register. The comments received will be analyzed and considered in preparation of a final EIS, which we expect to file in October 2000. A Record of Decision will be issued not less than 30 days after publication of a Notice of Availability of the final EIS in the Federal Register.

The Forest Service believes it is important at this early stage to give reviews notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections and available to the Forest Service at a time when it can meaningful consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

The responsible official for this environmental impact statement is Randy Moore, Forest Supervisor, Mark Twain National Forest.

Dated: June 15, 2000.
John C. Bisbee,
District Ranger, Houston/Rolla/Cedar Creek Ranger District, Mark Twain National Forest, 108 South Sam Houston Boulevard, Houston, Missouri 65483.

[FR Doc. 00-16452 Filed 6-28-00; 8:45 am]

BILLING CODE 3410-11-M